ENVIRONMENTAL PROTECTION AGENCY

[FRL-8204-3]

Science Advisory Board Staff Office

Notification of an Upcoming Closed Meeting of the Science Advisory Board's Scientific and Technological Achievement Awards Committee—Closed Meeting

AGENCY: Environmental Protection Agency (EPA).

ACTION: Notice.

SUMMARY: The U.S. Environmental Protection Agency's (EPA), Science Advisory Board (SAB) Staff Office announces a closed meeting of the SAB's Scientific and Technological Achievement Awards Committee to recommend to the Administrator the recipients of the Agency's 2006 Scientific and Technological Achievement Awards.

DATES: August 21-23, 2006.

ADDRESSES: This closed meeting will take place at the U.S. Environmental Protection Agency (EPA), Washington, DC.

FOR FURTHER INFORMATION CONTACT: Members of the public who wish to obtain further information regarding this announcement may contact Ms. Vivian Turner, Designated Federal Officer, by telephone: (202) 343-9697 or e-mail at: turner.vivian@epa.gov.

The SAB mailing address is: U.S. EPA Science Advisory Board (1400F), U.S. Environmental Protection Agency, 1200 Pennsylvania Avenue, NW., Washington, DC 20460. General information about the SAB as well as any updates concerning the meeting announced in this notice, may be found in the SAB Web site at: http://www.epa.gov/sab/panels/staa_rev_panel_fy2006-fy2009.htm.

SUPPLEMENTARY INFORMATION: Pursuant to Section 10(d) of the Federal Advisory Committee Act (FACA), 5 U.S.C. App. 2, and section (c)(6) of the Government in the Sunshine Act, 5 U.S.C. 552b(c)(6), EPA has determined that the meeting will be closed to the public. The purpose of the meeting is for the SAB to recommend to the Administrator the recipients of the Agency's 2006 Scientific and Technological Achievement Awards. These awards are established to honor and recognize EPA employees who have made outstanding contributions in the advancement of science and technology through their research and development activities, as exhibited by publication of their results in peer reviewed journals. This meeting is closed to the public because it is concerned with selecting which employees are deserving of awards, a personnel matter with privacy concerns, which is exempt from public disclosure pursuant to section 10(d) of the Federal Advisory Committee Act (FACA), 5 U.S.C. App. 2, and section (c)(6) of the Government in the Sunshine Act, 5 U.S.C. 552b(c)(6). In accordance with the provisions of the Federal Advisory Committee Act, minutes of the meeting will be kept for Agency and Congressional review.

Dated: July 25, 2006.
Stephen L. Johnson,
Administrator.

[FR Doc. E6-12214 Filed 7-28-06; 8:45 am]

BILLING CODE 6560-50-P